DEPARTMENT OF THE TREASURY

Submission for OMB Review; Comment Request

ACTION: Notice; correction.

SUMMARY: The Department of the Treasury published a document in the Federal Register on March 28, 2013, inviting comments on collections of information submitted to the Office of Management and Budget (OMB) for review. This document contained incorrect references.

Correction

In the Federal Register of March 28, 2013, in FR Doc. 2013-07169, make the following corrections:

• Page 19071, in the third column, under OMB Number: 1545-0028, Type of Review: Replace “Extension without change” with “Revision”.

• page 19072, in the first column, under OMB Number: 1545-0231, Estimated Total Burden Hours: Replace “231,693” with “21,252”.

• page 19072, in the third column, under OMB Number: 1545-2151, Type of Review: Replace “Extension without change” with “Revision”, Title: Replace “2009-72” with “2013-12”, and Estimated Total Burden Hours: Replace “110,000” with “55,000”.

• page 19073, in the first column, under OMB Number: 1545-2235, Type of Review: Replace “Extension without change” with “Revision”; Title: Add to the end of the title “and Statistics of Income—User Fees”; Form: Add “and 14417-A” to the end of the sentence, and Estimated Total Burden Hours: Replace “150” with “160”.

Dated: April 9, 2013.
Dawn D. Wolfgang,
Treasury PRA Clearance Officer.

[FR Doc. 2013-08651 Filed 4-11-13; 8:45 am]

BILLING CODE 4810-30-P